DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment 7/17/2010 Through 7/29/2010
Firm | Address | Date accepted for filing | Products
Timberline Tool, LLC | PO Box 1328, Whitefish MT 59937 | 7/20/2010 | Timberline produces squeeze-off tools used for polyethylene (PE) plastic pipe to stop the flow without damage to the pipe.
Master Automatic Machine Company, Inc | 40485 Schoolcraft Rd., Plymouth MI 48170 | 7/26/2010 | Firm manufactures transmission components, including bearing housings, specialty fasteners and other precision turned products.
Patriot Metal Products, Inc | 1005 N. Vine Street, Berwick PA 18603 | 7/26/2010 | Patriot Metal provides custom coating and plating services to firms in the automotive, agricultural, appliance and entertainment industries.
Superior Tube Company, Inc | 3900 Germantown Pike, Collegeville PA 19426 | 7/26/2010 | Superior produces small diameter precision metal tubing. We also provide full-service metallurgical testing.
Imperia Corp | 343 Manley Street, West MA 02379 | 7/27/2010 | Imperial Corp. manufactures custom, cabinetry out of melamine and plywood.
W.H. Bagshaw Company, Inc | 1 Pine Street Ext., Nashua NH 03060 | 7/27/2010 | WH Bagshaw manufacturers pins, pin assemblies and wire products for a wide range of industrial applications.
Cinram Manufacturing, LLC | 1400 E. Lackawanna Street, Olyphant PA 18448 | 7/28/2010 | Cinram is one of the largest optical disc replicators in the world.
Fixture Hardware Manufacturing Corporation | 4116 First Avenue, Brooklyn NY 11232 | 7/28/2010 | Firm manufactures a full line of steel display hardware.
McTeigue & McClelland, Inc | 597 Main Street, Great MA 01230 | 7/28/2010 | MC2 designs and manufactures, hand made, precious jewelry using gold, platinum, diamonds and precious stones.
MSW, Inc | 7159 Country Road 200, Joplin MO 64801 | 7/28/2010 | MSW, Inc., designs and manufactures booths, counters, and table tops made of plastics, woods, and laminate materials.
Philip Machine Company, Inc | 184 Woonasquatucket Ave, North RI 02911 | 7/28/2010 | Philip Machine Company, Inc. manufactures metal findings using steel, brass, and stainless steel.
Fulford Manufacturing Company, Inc | 65 Tripps Lane, East RI 02915 | 7/29/2010 | Fulford Manufacturing Company, Inc. manufactures hardware, plumbing fixtures and fittings, metal stampings, and costume jewelry using materials that include stainless steel, brass and aluminum.
Gulf Crown Seafood Company, Inc | 306 Jon Floyd Rd, Delcambre LA 70528 | 7/29/2010 | Processes shrimp for human consumption.
Hatch & Kirk, Inc | 5111 Leary Ave NW, Seattle WA 98107 | 7/29/2010 | Hatch & Kirk, Inc., is a supplier of heavy duty diesel engine parts.
Parlec, Inc | 101 Perinton Parkway, Delcambre LA 70528 | 7/29/2010 | Parlec, Inc., manufactures machine tool accessories.

Any party having a substantial interest in these proceedings may request a public hearing on the matter.

A written request for a hearing must be submitted to the Trade Adjustment Assistance for Firms Division, Room D100, Economic Development Administration, U.S. Department of Commerce, Washington, DC 20230, no later than ten (10) calendar days following publication of this notice.

Please follow the procedures set forth in Section 315.9 of EDA's final rule (71 FR 56704) for procedures for requesting a public hearing. The Catalog of Federal Domestic Assistance official program number and title of the program under which these petitions are submitted is 11.313, Trade Adjustment Assistance.

Dated: July 30, 2010.
Miriam J. Kearse,
Eligibility Certifier.

[FR Doc. 2010-19209 Filed 8-4-10; 8:45 am]

BILLING CODE 3510-24-P